DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on October 1, 2002 (67 FR 61722-61723).

DATES: Comments must be submitted on or before May 16, 2003.

FOR FURTHER INFORMATION CONTACT: Luke Loy, National Highway Traffic Safety Administration, Office of Enforcement, 202-366-5308. 400 Seventh Street, SW., Room 6111, Washington, DC 20590.

SUPPLEMENTARY INFORMATION:

National Highway Traffic Safety Administration

Title: Motor Vehicle Importation.

OMB Number: 2127-0002.

Type of Request: Extension of a currently approved collection.

Affected Public: Business or other for-profit.

Abstract: The National Highway Traffic Safety Administration's (NHTSA's) statute at 49 U.S.C. subchapter III Importing Noncomplying Motor Vehicles and Equipment (49 U.S.C. section 30141 et seq.) requires that a motor vehicle which does not conform to applicable Federal Motor vehicle Safety Standards (FMVSS) be refused admission into the United States. NHTSA may authorize importation of nonconforming vehicles upon specified terms and conditions to insure that any such vehicle or equipment will be brought into conformity with all applicable FMVSS or will be exported out of or abandoned to the United States at no cost.

Estimated Burden Hours: 72,500.

Number of Respondents: 838,000.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC, on April 10, 2003.
Delmas Maxwell Johnson,
Associate Administrator for Administration.

[FR Doc. 03-9356 Filed 4-15-03; 8:45 am]

BILLING CODE 4910-59-P